DEPARTMENT OF HOUSING AND URBAN DEVELOPMENT

[Docket No. FR-5386-N-07]

Privacy Act of 1974; Notice of a New Privacy Act System of Records (SORN), Ginnie Mae Master Subservicer System

AGENCY: Office of the Chief Information Officer, HUD.

ACTION: Notice of a New Privacy Act SORN.

SUMMARY: The Department proposes to establish a new Privacy Act SORN subject to the Privacy Act of 1974 (5 U.S.C. 552a), as amended. The Ginne Mae Master Subservicer System will be used to perform a wide range of loan servicing functions required to process transactions relating to the servicing of home and project loans on behalf of Ginnie Mae. These services include, but are not limited to, servicing current, delinquent and defaulted loans, both pooled and non-pooled, including foreclosure services, management and disposition of acquired properties (Real Estate Owned).

DATES: Effective Date: This action shall be effective without further notice on August 30, 2010 unless comments are received that would result in a contrary determination.

Comments Due By: August 30, 2010.

ADDRESSES: Interested persons are invited to submit comments regarding this notice to the Rules Docket Clerk, Office of General Counsel, Room 10276, Department of Housing and Urban Development, 451 Seventh Street, SW., Washington, DC 20410. Communications should refer to the above docket number and title. A copy of each communication submitted will be available for public inspection and copying between 8 a.m. and 5 p.m. weekdays at the above address.

FOR FURTHER INFORMATION CONTACT: For Privacy Act related questions contact Donna Robinson-Staton, Departmental Privacy Officer, Department of Housing and Urban Development, 451 Seventh Street, SW., Room 2256, Washington, DC 20410, Telephone Number (202) 402-8073. (This is not a toll-free number.) A telecommunication device for hearing- and speech-impaired individuals (TTY) is available at 1-800-877-8339 (Federal Information Relay Service).

SUPPLEMENTARY INFORMATION: Pursuant to the Privacy Act of 1974 (5 U.S.C. 552a), as amended, notice is given of a new system of records, Ginnie Mae Master Subservicer System. Title 5 U.S.C. 552a(e)(4) and (11) provide that the public be afforded a 30-day period in which to comment on the new system of records, and require published notice of the existence and character of the system of records. The new system report was submitted to the Office of Management and Budget (OMB), the Committee on Homeland Security and Governmental Affairs of the Senate, and the House Committee on Oversight and Government Reform of the House of Representatives pursuant to paragraph 4c of Appendix 1 to OMB Circular No. A-130, “Federal Agency Responsibilities for Maintaining Records About Individuals,” July 25, 1994; 59 FR 37914.

Authority: Sec. 306(g), National Housing Act, 12 U.S.C. 1721(g).

Dated: July 15, 2010.
Jerry E. Williams,
Chief Information Officer.

HUD/GNMA-02

System Name:

Ginnie Mae Master Subservicer System.

System Location:

Individual borrowers' and co-borrowers' data relating to mortgage loans pooled in or formerly pooled in Ginnie Mae Mortgage-Backed Securities are located at their respective Ginnie Mae Master Subservicer.

Categories of individuals covered by the system:

Borrowers and co-borrowers.

Categories of records in the System:

May include but are not limited to: Borrower's name, co-borrowers' name(s), social security number, date of birth, property address, telephone number, email address, and income and other financial data; also, the Federal Housing Administration (FHA), Department of Veterans Affairs (VA), Department of Agriculture Rural Housing Service (RHS), or HUD Office of Public and Indian Housing (PIH) loan number.

Authority for maintenance of the system:

Sec. 306(g), National Housing Act, 12 U.S.C. 1721(g).

Purposes:

The information is used to perform a wide range of loan servicing functions. The data are maintained in a comprehensive loan servicing system that processes transactions relating to the servicing of home and project loans on behalf of Ginnie Mae.

Routine uses of records maintained in the system, including categories of users and the purposes of such uses:

In addition to those disclosures generally permitted under 5 U.S.C. 552a(b) of the Privacy Act, other routine uses are as follows:

(a) To the U.S. Treasury—for disbursements, adjustments, collection services; and

(b) To the Internal Revenue Service and to state and local governments—for reporting payments for mortgage interest, for reporting of discharge indebtedness and real estate taxes; and

(c) To the U.S. Department of Justice, courts, Federal, state and local government agencies in conjunction with civil, administrative and criminal litigation as well as investigations and audits; and

(d) To individuals and entities under contract, cooperative agreement, or working agreement with HUD to assist the Department in fulfilling its statutory and management responsibilities; and

(e) To credit bureaus and other entities for credit reporting purposes; and

(f) To employers to effect wage garnishment; and

(g) To third party purchasers or potential purchasers in connection with asset sale transactions; and

Additional Disclosure for Purposes of Facilitating Responses and Remediation Efforts in the Event of a Data Breach. A record from a system of records maintained by this Department may be disclosed to appropriate agencies, entities, and persons when:

(a) The Department suspects or has confirmed that the security or confidentiality of information in the system of records has been compromised; and

(b) The Department has determined that as a result of the suspected or confirmed compromise there is a risk of harm to economic or property interests, identity theft or fraud, or harm to the security or integrity of this system or other systems or programs (whether maintained by the HUD or another agency or entity) that rely upon the compromised information; and

(c) The disclosure made to such agencies, entities, and persons is reasonably necessary to assist in connection with the HUD's efforts to respond to the suspected or confirmed compromise and prevent, minimize, or remedy such harm.

Policies and practices for storing, retrieving, accessing, retaining, and disposing of records in the system:

Storage:

Electronic files are stored on servers and back-up files are stored on tapes. Servers are stored in a secured server room and at an offsite secured facility for disaster contingency. The original collateral documents (hard copy) are stored securely at the contractors' offices or at a secured offsite document storage facility.

Retrievability:

Information can be retrieved by borrower's name, social security number, property address, or by FHA, VA, Department of Agriculture RHS, and PIH Master Subservicer's loan numbers.

Safeguards:

Electronic records are maintained in a secured computer network behind a firewall. Access to records is limited to authorized personnel.

Retention and disposal:

Are in accordance with HUD Records Disposition Schedule 2225.6, Appendix 20.

System Manager(s) and address:

The offices of various contractors servicing as Master Subservicers for Ginnie Mae, Office of Mortgage-Backed Securities. Individual borrowers and co-borrowers are to contact the appropriate Master Subservicer identified on their loan payment statements when requesting record access, corrections, monthly mortgage loan payment instructions and/or inquiries.

Record Access and Notification Procedures:

The Department's rules for providing access to records to the individual concerned appear in 24 CFR part 16. If additional information or assistance is required, individual borrowers and co-borrowers are to contact the System Manager identified above.

Contesting Record Procedures:

The procedures for requesting amendment or correction of records appear in 24 CFR part 16. If additional information is needed, contact:

(i) In relation to contesting contents of records, the Departmental Privacy Officer at HUD, 451 Seventh Street, SW., Room 2256, Washington, DC 20410; and

(ii) In relation to appeals of initial denials, HUD, Departmental Privacy Appeals Officer, Office of General Counsel, 451 Seventh Street, SW., Washington, DC 20410.

Record Source Categories:

Records are established using information received from borrowers and from legal instruments related to borrowers' loans (i.e., mortgages, notes, and deeds).

Exemptions:

None.

[FR Doc. 2010-18548 Filed 7-28-10; 8:45 am]

BILLING CODE 4210-67-P